DEPARTMENT OF ENERGY

Federal Energy Regulatory Commission

[Docket No. RP03-440-001

Vector Pipeline L.P.; Notice of Compliance Filing

July 16, 2003.

Take notice that on July 10, 2003, Vector Pipeline L.P. (Vector), tendered for filing as part its FERC Gas Tariff, Original Volume No. 1, Substitute Third Revised Sheet No. 159, with an effective date of July 1, 2003.

Vector states that the filing is being made in compliance with the terms of a letter order issued June 30, 2003 in the captioned docket.

Any person desiring to protest said filing should file a protest with the Federal Energy Regulatory Commission, 888 First Street, NE., Washington, DC 20426, in accordance with ¶385.211 of the Commission's Rules and Regulations. All such protests must be filed in accordance with ¶154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 23, 2003.

Magalie R. Salas,
Secretary.

[FR Doc. 03-18670 Filed 7-21-03; 8:45 am]

BILLING CODE 6717-01-P